DEPARTMENT OF STATE

[Public Notice 3875]

Bureau of Educational and Cultural Affairs Request for Grant Proposals: Development of a Professional Journal and Research Service for Overseas U.S. Educational Advising Centers

SUMMARY: The Educational Information and Resources Branch,Office of Global Educational Programs, Bureau of Educational and Cultural Affairs (the Bureau) announces an open competition for a professional journal and research service for overseas educational advising centers. Public or private non-profit organizations meeting the provisions described in IRS regulation 26 USC 501(c)(3) are invited to submit proposals to produce a professional journal to provide timely and in-depth information on trends and developments in U.S. higher education and other issues and topics relevant to the Department of State-affiliated overseas educational advising and information centers. The selected organization will also answer reference inquiries from Department of State-designated educational advising offices overseas. The Bureau anticipates awarding up to $97,000 to one organization for these activities.

Program Information

Overview

This grant funds a professional journal for overseas advisers to assist them in providing comprehensive information about the strengths and diversity of the U.S. higher educational system to foreign audiences. Proposals should illustrate how the organization will produce a professional journal, including an internet web site and publication, to provide timely and in-depth information for the staff of Department of State-affiliated overseas educational advising and information centers that advise foreign nationals about educational opportunities in the United States. The information provided to advisers should focus on the field of U.S. education and offer skill-building content for practitioners of advising(for example, the resource could train advisers in the ethics of the profession and teach them how to enhance their communication and listening skills). The information should also feature current information on university programs, new advising resources, short-term training programs, current testing announcements, news briefs, reference questions of world-wide interest, and scholarship and financial information useful to overseas educational advisers in the conduct of their duties. E-mail updates on timely topics relating to U.S. education must be distributed regularly to advisers between issues of the electronic and print journals.

Guidelines

The organization should produce four issues of the publication (Summer 2002, Fall 2002, Winter 2002 and Spring 2003), and describe what publishing capacity will be used to assure that each issue of the publication is produced quickly and efficiently. Five hundred copies of the publication must be shipped to the Department of State's shipping facility for distribution to overseas educational advising centers. The web site must be designed in a user-friendly fashion, with an index of topics, and in a format that can be shared directly with students with minimal repackaging by the adviser. The web site should include additional features such as updates, reference links, and a possible bulletin board or chat room that increases contacts between advisers and U.S. university representatives. The web site may be password protected. The first posting to the web site and the first print issue should be available within 90 days of grant receipt.

The research service will provide information regarding specific degree or postgraduate programs, particular types of resources, short-term training programs, and determining institutional accreditation or legitimacy. Most inquiries are for information which is not readily available in other print or internet resources. The proposal should describe how this service will operate, and how it would respond directly to specific inquiries from Department of State-affiliated educational advisers overseas. An explanation of the staff's expertise in answering individual questions that are detailed or geographically specific should be included. The web site and publication must acknowledge that its contents were developed, in part, under a grant from the Bureau of Educational and Cultural Affairs of the Department of State. The Bureau reserves the right to use all materials produced for its own purposes.

Budget Guidelines

Grants awarded to eligible organizations with less than four years of experience in conducting international exchange programs will be limited to $60,000. The budget should not exceed $97,000 for the development of the web site, publication, and research service. The $97,000 should also cover all printing costs for producing the publication. For both the electronic and print versions, applicants are encouraged to sell subscriptions and use advertising to offset production costs in excess of the grant. The Applicants must submit a comprehensive line item budget based on the specific guidance in the Solicitation Package. There must be a summary budget as well as a break-down of the administrative budget. The Bureau's grant assistance will not exceed $97,000. The $97,000 is expected to constitute only a portion of the total project funding. Cost sharing is required and the proposal should list other anticipated sources of support. Grant applications should demonstrate financial and in-kind support.

Allowable costs for the program include the following:

(1) Salaries and fringe benefits

(2) Web site design costs, printing, utilities, and other direct costs

(3) Indirect expenses, auditing costs

Applicants should refer to the Grant package for complete budget guidelines and formatting instructions.

Announcement Title and Number

All correspondence with the Bureau concerning this RFGP should reference the above title and number ECA/A/S/A-2002-09.

FOR FURTHER INFORMATION CONTACT: The Office of Global Educational Programs, Educational Information and Resources Branch, Department of State, 301 4th Street, SW., (SA-44), Washington, DC 20547, Tel: (202) 619-5549, Fax: (202) 401-1433, E-mail: aprince@pd.state.gov. Potential applicants are encouraged to contact the program office to request an Application Package, which includes more detailed award criteria; all application forms, and guidelines for preparing proposals, including specific criteria for preparation of the proposal budget. Please specify the Bureau Program Officer,Ann Prince, on all inquiries and correspondences. Please read the complete Federal Register announcement before sending inquiries or submitting proposals. Once the RFGP deadline has passed, Bureau staff may not discuss this competition with applicants until the proposal review process has been completed.

To Download a Solicitation Package Via Internet

The entire Solicitation Package may be downloaded from the Bureau's web site at: http://exchanges.state.gov/education/RFGPs. Please read all information before downloading.

Deadline for Proposals

All proposal copies must be received at the Bureau of Educational and Cultural Affairs by 5 p.m. Washington, DC time on Thursday, March 7, 2002. Faxed documents will not be accepted at any time. Documents postmarked the due date but received on a later date will not be accepted. Each applicant must ensure that the proposals are received by the above deadline.

Applicants must follow all instructions in the Solicitation Package. The original and eleven copies of the application should be sent to: U.S. Department of State, Bureau of Educational and Cultural Affairs, Ref.: ECA/A/S/A-2002-09,Program Management, ECA/EX/PM, Room 534, 301 4th Street, SW.—SA-44, Washington, DC 20547.

Applicants must also submit the “Executive Summary” and “Proposal Narrative” sections of the proposal on a 3.5” diskette, formatted for DOS. These documents must be provided in ASCII text (DOS) format with a maximum line length of 65 characters. The Bureau will transmit these files electronically to other Department of State Bureaus for their review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity' section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package.

All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards resides with the Bureau's grants contracting officer.

Review Criteria

Technically eligible applications will be competitively reviewed according to the criteria stated below. These criteria are not rank ordered and all carry equal weight in the proposal evaluation:

1. Program Planning: Proposals should exhibit originality, substance, precision, and relevance to design a web site, produce a publication, and provide e-mail updates on timely topics that will address the need for in-depth and balanced exploration of issues and topics important to overseas educational advisers. In addition, the proposal should demonstrate the resources and professional contacts necessary to respond in a timely manner to inquiries by overseas educational advisers.

2. Institution's Track Record/Ability: Proposals should demonstrate an institutional record of successful programs, including responsible fiscal management and full compliance with all reporting requirements for past grants as determined by the Bureau's Office of Contracts. Proposed personnel and institutional resources should be adequate and appropriate to achieve the program goals.

3. Demonstrated Ability: Proposals should clearly demonstrate how the institution will meet the program's objectives and plan. The proposal should describe technological and editorial capability.

4. Project Evaluation: Proposal should provide a plan for evaluation by the grantee institution that includes measures of success. Evaluation plan should include periodic progress reports at the end of the grant cycle, as well as intermediate reports describing results of the project.

5. Cost-Effectiveness: The overhead and administrative components of the proposal, including salaries, should be kept as low as possible. All other items should be necessary and appropriate.

6. Cost-Sharing: Proposals should maximize cost-sharing through other private sector support as well as institutional direct funding contributions. For both electronic and print versions, applicants may sell subscriptions and use advertising to offset production costs in excess of the grant.

7. Support of Diversity: Proposals should demonstrate the recipient's commitment to promoting the awareness and understanding of diversity, and to exposing readers to the widest possible range of views and approaches to U.S. higher education. Attention should be given to printing articles relating to different kinds of schools and universities from various regions of the U.S. The Department of State strives to ensure that all programs conducted under its mandate reflect the diversity of the intended audiences.

The Bureau aggressively seeks and actively encourages the involvement of American and international participants from traditionally underrepresented groups in all its grants, programs and other activities. These include women, racial and ethnic minorities and people with disabilities.

Authority

Overall grant making authority for this program is contained in the Mutual Educational and Cultural Exchange Act of 1961,Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: January 3, 2002.
Patricia S. Harrison,
Assistant Secretary for Educational and Cultural Affairs, U.S. Department of State.

[FR Doc. 02-1260 Filed 1-16-02; 8:45 am]

BILLING CODE 4710-05-P